DEPARTMENT OF TRANSPORTATION

Federal Railroad Administration

[Docket Number FRA-2006-26094]

Petition for Waiver of Compliance

In accordance with Part 211 of Title 49 Code of Federal Regulations (CFR), notice is hereby given that the Federal Railroad Administration (FRA) received a request for a waiver of compliance from certain requirements of its safety standards. The individual petition is described below, including the party seeking relief, the regulatory provisions involved, the nature of the relief being requested, and the petitioner's arguments in favor of relief.

Maine Narrow Gage Railroad and Museum

The Maine Narrow Gage Railroad & Museum (MNGR), a 2-foot-gage museum railroad, seeks a waiver of compliance from the requirements of 49 CFR 230.17, One thousand four hundred seventy-two service day inspection. The MNGR is not engaged in general railroad transportation, and provides only railroad tourist excursions on a limited schedule. The MNGR currently consists of approximately 2 miles of track located in the waterfront district of Portland, Maine, and is adjacent to a park.

This waiver would apply to MNGR Locomotive Number 8, and specifically requests temporary use of this locomotive while they are working to bring a second locomotive into compliance with the requirements of 49 CFR Part 230, as was recently accomplished with MNGR Locomotive Number 4. Bringing a second locomotive into compliance with the requirements of 49 CFR 230.17 has become a significant burden to the MNGR due to the limited availability of volunteer manpower, and overall cost. Allowing the temporary use of Locomotive Number 8 would allowing the petitioner to continue to operate the railroad's steam schedule and perform the required maintenance on Locomotive Number 4.

The petitioner believes that this locomotive can be safely operated for up to 3 years, not exceeding 144 service days. Locomotive Number 8 was built by Baldwin Locomotive Works in 1924, for the Bridgton and Harrison Railroad. However, a new, all-welded boiler was installed in 1958, built to the ASME code of construction. As designed, the maximum authorized working pressure for this boiler is 225 psi, but the MNGR derated the pressure to 160 psi to reduce the stress on the boiler's shell. In 1992, the boiler was inspected and new tubes installed, but the locomotive was never used. Since moving to the MNGR in 1993, Locomotive Number 8 has accumulated fewer than 30 service days and been stored indoors with all washout plugs removed.

Interested parties are invited to participate in these proceedings by submitting written views, data, or comments. FRA does not anticipate scheduling a public hearing in connection with these proceedings since the facts do not appear to warrant a hearing. If any interested party desires an opportunity for oral comment, they should notify FRA in writing before the end of the comment period and specify the basis for their request.

All communications concerning this petition should identify the appropriate docket number (FRA-2006-26094) and may be submitted by one of the following methods:

• Web site: http://dms.dot.gov. Follow the instructions for submitting comments on the DOT electronic site;

• Fax: 202-493-2251;

• Mail: Docket Management Facility, U.S. Department of Transportation, 400 Seventh Street, SW., Nassif Building, Room PL-401, Washington, DC 20590-0001; or

• Hand Delivery: Room PL-401 on the plaza level of the Nassif Building, 400 Seventh Street, SW., Washington, DC, between 9 a.m. and 5 p.m., Monday through Friday, except Federal holidays.

Communication received within 45 days of the date of this notice will be considered by FRA prior to final action being taken. Comments received after that date will be considered to the extent practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment on behalf of an association, business, labor union, etc.). You may review the DOT's complete Privacy Act Statement in the Federal Register published on April 11, 2000 (Volume 65, Number 70; Pages 19477-78). The Statement may also be found at http://dms.dot.gov.

Issued in Washington, DC on February 28, 2007.
Grady C. Cothen, Jr.,
Deputy Associate Administrator for Safety Standards and Program Development.

[FR Doc. E7-3789 Filed 3-2-07; 8:45 am]

BILLING CODE 4910-06-P